DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons and vessels that have been placed on OFAC's Specially Designated Nationals and Blocked Persons List (SDN List) based on OFAC's determination that one or more applicable legal criteria were satisfied. All property and interests in property subject to U.S. jurisdiction of these persons are blocked, and U.S. persons are generally prohibited from engaging in transactions with them. The vessels placed on the SDN List have been identified as property in which a blocked person has an interest.

DATES: This action was issued on July 3, 2025. See Supplementary Information for relevant dates.

FOR FURTHER INFORMATION CONTACT: OFAC: Associate Director for Global Targeting, 202-622-2420; Assistant Director for Licensing, 202-622-2480; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On July 3, 2025, OFAC determined that the property and interests in property subject to U.S. jurisdiction of the following persons are blocked under the relevant sanctions authority listed below.

Entities

1. TRANS ARCTIC GLOBAL MARINE SERVICES PTE. LTD., Harbourfront Centre, 1 Maritime Square #12-19, 099253, Singapore; website tagmspl.com; Organization Established Date 20 May 2014; Identification Number 201414505H (Singapore) [IRAN-EO13902].

Designated pursuant to section 1(a)(i) of Executive Order 13902 of January 10, 2020, “Imposing Sanctions With Respect to Additional Sectors of Iran,” 85 FR 2003, 3 CFR, 2020 Comp., p. 299 (E.O. 13902), for operating in the petroleum sector of the Iranian economy.

2. EGIR SHIPPING LTD, Suite 10, 3rd Floor, La Ciotat, Mont Fleuri, Mahe Island, Seychelles; Identification Number IMO 0025596 [IRAN-EO13902].

Designated pursuant to section 1(a)(i) of E.O. 13902 for operating in the petroleum sector of the Iranian economy.

3. FOTIS LINES INCORPORATED, Trust Company Complex, Ajeltake Road, Majuro, Ajeltake Island 96960, Marshall Islands; Organization Established Date 30 Apr 2024; Identification Number IMO 6500031; Company Number 125700 (Marshall Islands) [IRAN-EO13902].

Designated pursuant to section 1(a)(i) of E.O. 13902 for operating in the petroleum sector of the Iranian economy.

4. THEMIS LIMITED, Trust Company Complex, Ajeltake Road, Majuro, Ajeltake Island 96960, Marshall Islands; Organization Established Date 21 May 2020; Identification Number IMO 6163123; Company Number 104990 (Marshall Islands) [IRAN-EO13902].

Designated pursuant to section 1(a)(i) of E.O. 13902 for operating in the petroleum sector of the Iranian economy.

5. BETENSH GLOBAL INVESTMENT LIMITED AND DONG DONG SHIPPING LIMITED (a.k.a. BETENSH GLOBAL INVESTMENT & DONG DONG SHIPPING LIMITED), Road Town, Tortola, Virgin Islands, British; Organization Established Date 2024; Identification Number IMO 6508071 [IRAN-EO13902].

Designated pursuant to section 1(a)(i) of E.O. 13902 for operating in the petroleum sector of the Iranian economy.

BILLING CODE 4810-AL-P

BILLING CODE 4810-AL-C

12. DIMA SHIPPING AND TRADING COMPANY (a.k.a. DIMA SHIPPING & TRADING COMPANY; a.k.a. DIMA SHIPPING AND TRADING CO), 1305 Sokak, Gazi Mah, 9/5, Yenisehir, Mersin, Mersin 33130, Turkey; Liberia; Secondary sanctions risk: section 1(b) of Executive Order 13224, as amended by Executive Order 13886; Organization Established Date 2023; Organization Type: Sea and coastal freight water transport; Identification Number IMO 6414273 [SDGT] (Linked To: AL-QATIRJI COMPANY).

Designated pursuant to section 1(a)(iii)(C) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having materially assisted, sponsored, or provided financial, material, or technological support for, or goods or services to or in support of, AL-QATIRJI COMPANY, a person whose property and interests in property are blocked pursuant to E.O. 13224, as amended.

13. GRAT SHIPPING CO LTD, Victoria, Mahe Island, Seychelles; Secondary sanctions risk: section 1(b) of Executive Order 13224, as amended by Executive Order 13886; Organization Established Date 2022; Organization Type: Sea and coastal freight water transport; Identification Number IMO 6331263 [SDGT] (Linked To: AL-QATIRJI COMPANY).

Designated pursuant to section 1(a)(iii)(C) of E.O. 13224, as amended, for having materially assisted, sponsored, or provided financial, material, or technological support for, or goods or services to or in support of, AL-QATIRJI COMPANY.

14. WHITE SANDS SHIPMANAGEMENT CORP., Suite 10, 3rd Floor, La Ciotat, Mont Fleuri, Seychelles; Secondary sanctions risk: section 1(b) of Executive Order 13224, as amended by Executive Order 13886; Organization Established Date 21 Apr 2023; Organization Type: Sea and coastal freight water transport; Identification Number IMO 6405037 [SDGT] (Linked To: AL-QATIRJI COMPANY).

Designated pursuant to section 1(a)(iii)(C) of E.O. 13224, as amended, for having materially assisted, sponsored, or provided financial, material, or technological support for, or goods or services to or in support of, AL-QATIRJI COMPANY.

Individual

1. SAID, Salim Ahmed (a.k.a. OMEED, Salam; a.k.a. SAEED, Mohammed; a.k.a. SALEM, Omed; a.k.a. `UMED, Salim; a.k.a. `UMEED, Salim), Villa D-24 The Palm Jumeirah, Dubai, United Arab Emirates; DOB 04 Dec 1977; POB Chardgloo, Iraq; nationality United Kingdom; Gender Male; Passport 513075044 (United Kingdom) expires 08 Mar 2026; alt. Passport 556957176 (United Kingdom) expires 28 Jan 2029; National ID No. 784197736807633 (United Kingdom) (individual) [IRAN-EO13902].

Designated pursuant to section 1(a)(i) of E.O. 13902 for operating in the petroleum sector of the Iranian economy.

On July 3, 2025, OFAC also identified the following vessels as property in which a blocked person has an interest under the relevant sanctions authority listed below.

Vessels

1. FOTIS (D6A3948) LPG Tanker Comoros flag; Vessel Year of Build 2006; Vessel Registration Identification IMO 9306548; MMSI 620999948 (vessel) [IRAN-EO13902] (Linked To: FOTIS LINES INCORPORATED).

Identified as property in which FOTIS LINES INCORPORATED, a person whose property and interests in property are blocked pursuant to E.O. 13902, has an interest.

2. THEMIS (3EFU8) Crude Oil Tanker Panama flag; Vessel Year of Build 2002; Vessel Registration Identification IMO 9264570; MMSI 353744000 (vessel) [IRAN-EO13902] (Linked To: THEMIS LIMITED).

Identified as property in which THEMIS LIMITED, a person whose property and interests in property are blocked pursuant to E.O. 13902, has an interest.

3. VIZURI (TJMC707) Crude Oil Tanker Cameroon flag; Vessel Year of Build 2000; Vessel Registration Identification IMO 9197909; MMSI 613742000 (vessel) [IRAN-EO13902] (Linked To: EGIR SHIPPING LTD).

Identified as property in which EGIR SHIPPING LTD, a person whose property and interests in property are blocked pursuant to E.O. 13902, has an interest.

4. BIANCA JOYSEL (3E2106) Crude Oil Tanker Panama flag; Vessel Year of Build 2002; Vessel Registration Identification IMO 9196632; MMSI 352001069 (vessel) [IRAN-EO13902] (Linked To: BETENSH GLOBAL INVESTMENT LIMITED AND DONG DONG SHIPPING LIMITED).

Identified as property in which BETENSH GLOBAL INVESTMENT LIMITED AND DONG DONG SHIPPING LIMITED, a person whose property and interests in property are blocked pursuant to E.O. 13902, has an interest.

5. DIJILAH (V7A2015) Crude Oil Tanker Marshall Islands flag; Vessel Year of Build 2019; Vessel Registration Identification IMO 9829629; MMSI 538008147 (vessel) [IRAN-EO13902] (Linked To: VS TANKERS FREE ZONE ENTITY—F.Z.E DMCC BRANCH).

Identified as property in which VS TANKERS FREE ZONE ENTITY—F.Z.E DMCC BRANCH, a person whose property and interests in property are blocked pursuant to E.O. 13902, has an interest.

6. ATILA (TJM0033) Crude Oil Tanker Cameroon flag; Secondary sanctions risk: section 1(b) of Executive Order 13224, as amended by Executive Order 13886; Vessel Year of Build 2003; Vessel Registration Identification IMO 9262754; MMSI 613769400 (vessel) [SDGT] (Linked To: GRAT SHIPPING CO LTD).

Identified as property in which GRAT SHIPPING CO LTD, a person whose property and interests in property are blocked pursuant to E.O. 13902, has an interest.

7. ELIZABET (TJMC263) Crude Oil Tanker Cameroon flag; Secondary sanctions risk: section 1(b) of Executive Order 13224, as amended by Executive Order 13886; Vessel Year of Build 2000; Vessel Registration Identification IMO 9216717; MMSI 613001301 (vessel) [SDGT] (Linked To: WHITE SANDS SHIPMANAGEMENT CORP.).

Identified as property in which WHITE SANDS SHIPMANAGEMENT CORP., a person whose property and interests in property are blocked pursuant to E.O. 13902, has an interest.

8. GAS MARYAM (T8A4824) LPG Tanker Palau flag; Secondary sanctions risk: section 1(b) of Executive Order 13224, as amended by Executive Order 13886; Vessel Year of Build 1996; Vessel Registration Identification IMO 9108099; MMSI 511101457 (vessel) [SDGT] (Linked To: DIMA SHIPPING AND TRADING COMPANY).

Identified as property in which DIMA SHIPPING AND TRADING COMPANY, a person whose property and interests in property are blocked pursuant to E.O. 13902, has an interest.

Lisa M. Palluconi,
Acting Director, Office of Foreign Assets Control.

[FR Doc. 2025-12724 Filed 7-8-25; 8:45 am]

BILLING CODE 4810-AL-P